DEPARTMENT OF THE INTERIOR

Bureau of Land Management

[NM050-1430ES]

Notice of Intent To Prepare a Resource Management Plan Amendment (RMPA) and Environmental Assessment (EA) for Public Land in Socorro County, NM

AGENCY: Bureau of Land Management (BLM), Interior.

ACTION: Notice of intent to prepare an RMPA/EA and intent to amend the Socorro Resource Management Plan dated August 1989, and invitation to participate in identification of issues and planning criteria.

SUMMARY: Pursuant to Section 102(2)(C) of the National Environmental Policy Act (NEPA) of 1969, Council on Environmental Quality (CEQ) regulations (40 CFR 1500-1508), and the Federal Land Policy and Management Act (FLPMA) of 1976, the BLM, Socorro Field Office, in cooperation with the State of New Mexico, State Monuments Division (State), will prepare an RMPA/EA. The RMPA/EA will address whether approximately 126 acres of federal land between the towns of Socorro and Truth Or Consequences, New Mexico off of Federal Highway I-25 can be classified for disposal, and transferred to the New Mexico State Monuments Division under the Recreation and Public Purposes Act of 1926 as amended (R&PP). The purpose of the proposed transfer is to jointly construct (BLM and State) the proposed El Camino Real de Tierra Adentro International Heritage Center (Center). The RMPA/EA will also analyze various alternatives for special management prescriptions for public land surrounding the proposed Center that are needed to protect the scenic, cultural, watershed, air quality, soils, visual resource management, social and economic, and other values of the location identified in the site selection process. The RMPA/EA preferred alternative could result in an amendment to the Socorro Resource Management Plan approved in 1989 before the Center was considered a potential foreseeable development. Alternative management prescriptions could include, but are not limited to, limitations and/or special conditions for future permits or rights-of-way for such proposals as landfills, electrical transmission lines, communications towers, or multi-story buildings, in certain locations on federal land surrounding the Center.

The RMPA/EA will seek to identify whether impacts are likely to result from the proposed actions of classifying the selected land for disposal, transferring the land, construction of the proposed Center, and any possible management prescriptions of surrounding federal public land. If potential impacts are identified, the RMPA/EA will analyze and consider a range of mitigation measures and alternative to ensure that impacts are not significant. The BLM and State will conduct two public meetings to present the public with a description of the proposed action and to receive comments and questions from the public. The public will have the opportunity to identify any issues regarding the proposed action during the meetings, and written comments will be accepted through May 6, 2000.

DATES AND LOCATIONS: Dates and locations of the public meetings are listed below.

April 5, 2000—6 PM

Holiday Inn Express, Conference Center, 1100 N. California St., Socorro, NM

April 6, 2000—6 P.M.

Civic Center, 400 West Fourth St., Truth Or Consequences, NM

ADDRESSES: Comments should be sent to Charles Carroll, BLM, 198 Neel Street, Socorro, NM 87801

FOR FURTHER INFORMATION CONTACT: Charles Carroll, Team Leader, at 505-835-0412.

SUPPLEMENTARY INFORMATION: The proposed action is the transfer of approximately 126 acres of public land administered by the BLM Socorro Field Office to the State Monuments Division and the Museum of the State of New Mexico for the purpose of constructing a new, jointly funded New Mexico Monument and BLM Interpretive Center. This project is a result of a culmination of years of cooperative effort between the BLM, State of New Mexico, and the towns and cities of the lower Rio Grande in New Mexico. The location of the proposed Center was selected through a detailed study conducted by Architectural Research Consultants, Inc. (ARC), funded by the BLM, State of New Mexico, and the towns of Los Lunas, Belen, Socorro, Truth Or Consequences, and Las Cruces. The site selection process is documented in the report entitled: “El Viaje: A Planning Study For The Camino Real Interpretive Center,” 1994 ARC.

The location for the Center was selected from among six candidate sites along the Camino Real, in part, due to its relatively pristine surroundings and excellent panoramic views to natural landmarks which are of historical significance to the historic trail. An observation deck on the proposed Center museum, and trails to locations on the proposed 126-acre compound, will provide visitors with views and interpretation of the surrounding landscape. No changes in ranching or grazing activities are contemplated, except to fence the proposed 126-acre compound to separate cattle from visitors and buildings. This proposed enclosure would not affect the existing grazing permit. The RMPA/EA will review potential impacts to the land and natural resources on and surrounding the site and will consider a wide range of alternatives for other types of future actions on surrounding public land. Types of potential actions will be categorized as compatible or incompatible with the future operation of the Center. For example, the permitting of a lighted microwave tower in direct line of site between the observation deck and a historic natural landmark, might be found to be incompatible. If this were true, then management prescriptions might be defined to allow selective siting of high-visibility actions in certain defined areas of surrounding public land, to mitigate adverse effects upon the values of the Center. Conversely, it might be found that locating a gravel pit in a location hidden from view of key locations of the Center, may have no potential adverse effect, and might be authorized with only routine stipulations. Therefore, a range of alternatives for both the geographic area and the types of potential future actions which could affect the Center will be considered. A full range of other resource considerations will be addressed, including threatened and endangered species, wildlife, lands and access, minerals, soils, air quality, water resources, Visual Resource Management, social and economics and so forth, which the public is welcomed to comment upon and help identify issues or concerns.

Dated: February 23, 2000.
Kate Padilla,
Office Manager.

[FR Doc. 00-5110 Filed 3-2-00; 8:45 am]

BILLING CODE 4130-MW-P